DEPARTMENT OF THE INTERIOR

Bureau of Land Management

[CA-160.95-1310-DU]

Notice of Intent To Prepare an Amendment to the Caliente Resource Management Plan Regarding Bureau of Land Management Administration of Newly Transferred Lands at Naval Petroleum Reserve #2 (NPR-2) in Kern County, CA

AGENCY: Bureau of Land Management, Department of the Interior.

ACTION: Notice of Intent to Amend the Caliente Resource Management Plan to provide for management of lands by BLM on newly transferred lands at the Naval Petroleum Reserve #2 (NPR-2) in Kern County, California.

SUMMARY: The Bureau of Land Management (BLM) proposes to amend the Caliente Resource Management Plan (RMP) to cover newly transferred lands at NPR-2 and prepare an environmental assessment to analyze the effects of that action. The lands addressed by this amendment were formerly under the jurisdiction of the Department of Energy. However, the Energy Policy Act of 2005 (hereinafter referred to as the Act) transferred management responsibility from the DOE to the BLM effective August 8, 2005. As directed in the Act, “the principal purpose of the lands subject to transfer * * * is the production of hydrocarbon resources, and the Secretary of the Interior shall manage the lands in a fashion consistent with this purpose.” Accordingly, this plan amendment will specify management prescriptions at NPR-2 for oil and gas related operations and specific realty actions covered under 43 CFR part 2000 by extending existing management prescriptions from the current Caliente RMP.

The proposed action identifies the suitability of the newly transferred lands for leasing for oil and gas exploration and development and any constraints thereon, in addition to addressing both ongoing and new oil and gas related activities on lands that are already leased. The amendment will also identify guidance for specific realty program actions, including any constraints on repositioning land through exchange, sale or acquisition. The land affected comprises only the federal portion of NPR-2. Total acreage is approximately 10,451 acres, located in Townships 31 South, Ranges 23-24 East; and 32 South, Ranges 23-25 East, MDBM. Approximately 7,919 acres, 76% of the transferred land, already contain ongoing oil and gas operations and little change is expected in those areas. Approximately 2,532 acres, or 24% of the transferred land, is unleased.

DATES: The publication of this notice initiates the public scoping process. Public comments concerning the scope of the draft RMP amendment for NPR-2 should be submitted within 30 days of the date of publication of this notice in the Federal Register. Comments are requested on potential issues, alternatives, as well as any suggested planning criteria that BLM should use to guide the plan amendment process.

Public Participation: Public input will be accepted throughout the preparation period. If sufficient interest exists, an open house will be held at the BLM field office in Bakersfield, CA. Information concerning the planning process, including any public participation opportunities, will be announced by BLM through news releases, direct mailings or other applicable means of public notification. Current information about the NPR-2 planning process is also maintained at the Bakersfield Field Office, 3801 Pegasus Dr., Bakersfield, CA 93308, telephone (661) 391-6000.

ADDRESSES: Scoping comments should be sent to Jeff Prude, NPR-2 Amendment Project Manager, Bureau of Land Management, Bakersfield Field Office, 3801 Pegasus Dr., Bakersfield, California, 93308; Fax (661) 391-6156, or e-mail at jprude@ca.blm.gov. BLM will maintain a record of public documents related to the development of the RMP amendment at the Bakersfield Field Office at the address listed above. Comments, including names and street addresses of respondents, will be available for public review at the Bakersfield Field Office during regular business hours, 7:30 a.m. to 4:15 p.m., Monday through Friday, excluding federal holidays, and may be published as part of the environmental assessment. Individual respondents may request confidentiality. Individuals who wish to withhold their name or street address from public review or from disclosure under the Freedom of Information Act must state this prominently at the beginning of their written comment. Such requests will be honored to the extent allowed by law. All submissions from organizations and businesses, and from individuals identifying themselves as representatives or officials of organizations or businesses, will be available for public inspection in their entirety.

FOR FURTHER INFORMATION CONTACT: For further information or to have your name added to our mailing list, contact Jeff Prude, telephone (661) 391-6140 or e-mail to jprude@ca.blm.gov.

SUPPLEMENTARY INFORMATION: The subject federal lands at NPR-2 were transferred from jurisdiction of the Department of Energy to the Bureau of Land Management as a result of the Energy Policy Act of 2005, effective August 8, 2005. A plan amendment is needed because the existing 1997 Caliente RMP does not specifically address management of NPR-2 (since it was not managed by the BLM at the time of the RMP approval). The lands have all been explored or developed for oil and gas operations. All management prescriptions, including oilfield and realty related actions covered in the amendment, will remain consistent with the law, best environmental practice, and balanced use of resources.

The land that was transferred to the BLM contains habitat suitable for several rare plants and animals. The amendment will fulfill the needs and obligations set forth in Section 102(2)(C) of the National Environmental Policy Act (NEPA), Section 202 of the Federal Land Policy and Management Act (FLPMA), and BLM planning regulations contained in 43 CFR part 1600. The BLM will work collaboratively with interested parties to identify the management decisions that are best suited to local, regional, and national needs and concerns. Preliminary issues and management concerns have been identified by BLM personnel, other agencies, and in meetings with individuals and user groups, including: Making the unleased lands available for competitive oil and gas leasing; providing consistent management for ongoing oil and gas operations on existing leases; land tenure adjustments; management and protection of sensitive, rare, threatened or endangered species; fire management; management integration with other agencies; management consistent with community needs; and access and transportation on the public lands. Disciplines involved in the planning process will include specialists with expertise in wildlife management, minerals and geology, water resources, archaeology, lands and realty, recreation, rangeland management, botany, soils, information technology, sociology, and economics. Likely alternatives to be evaluated may include: (1) “No Action” Alternative—no new land use plan allocations related to oil and gas or realty actions; (2) “Lease with Special Stipulations Consistent with existing Caliente RMP” Alternative, which will “prevent unnecessary degradation and * * * provide for ultimate economic recovery of the (hydrocarbon) resources,” ensure consistency with similar adjacent parcels, and maximize the enhancement and protection of the Area's biological, natural, cultural, and scenic values; and (3) “Resource Use” Alternative—Emphasize oil and gas production through use of Standard Lease Terms and Conditions.

Dated: August 17, 2005.
Ron Huntsinger,
Bakersfield BLM Field Manager.

[FR Doc. 05-19131 Filed 9-23-05; 8:45 am]

BILLING CODE 4310-40-P